DEPARTMENT OF HEALTH AND HUMAN SERVICES

Health Resources and Services Administration

Agency Information Collection Activities: Submission to OMB for Review and Approval; Public Comment Request; State Maternal Health Innovation Maternal Health Annual Report

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than October 28, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: State Maternal Health Innovation Maternal Health Annual Report, OMB No. 0906-xxxx-NEW.

Abstract: The State Maternal Health Innovation program is authorized by 42 U.S.C. 701(a)(2) (Title V, § 501(a)(2) of the Social Security Act), which authorizes awards for special projects of regional and national significance in maternal and child health. Special projects of regional and national significance support HRSA's mission to improve the health and well-being of America's mothers, children, and families. As of fiscal year 2024, HRSA is directly funding 35 states to implement maternal health innovation projects. The Maternal Health Annual Report will be completed by all grantees who receive funding under the program.

A 60-day notice published in the Federal Register on July 8, 2024, vol. 89, No. 130; pp. 55950-55951. There were no public comments.

Need and Proposed Use of the Information: HRSA will use the information to monitor grantees' progress in accessing, analyzing, and using state-level maternal health data and to summarize the data-focused work that grantees accomplish.

Likely Respondents: Recipients of the HRSA State Maternal Health Innovation grants.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
Maternal Health Annual Report: Respondents (Medical and Health Services Managers) | 30 | 1 | 30 | 12 | 360
Total | 30 |  | 30 |  | 360

Maria G. Button,
Director, Executive Secretariat.

[FR Doc. 2024-22166 Filed 9-26-24; 8:45 am]

BILLING CODE 4165-15-P